ENVIRONMENTAL PROTECTION AGENCY

[ER-FRL-9019-8]

Environmental Impact Statements; Notice of Availability

AGENCY: Environmental Protection Agency.

Weekly receipt of Environmental Impact Statements

Filed 02/23/2015 through 02/27/2015

Pursuant to 40 CFR 1506.9.

Notice

Section 309(a) of the Clean Air Act requires that EPA make public its comments on EISs issued by other Federal agencies. EPA's comment letters on EISs are available at: http://www.epa.gov/compliance/nepa/eisdata.html.

Responsible Agency: Office of Federal Activities, General Information (202) 564-7146 or http://www.epa.gov/compliance/nepa/.

EIS No. 20150047, Final EIS, USFS, CA, Heavenly Epic Discovery Project, Review Period Ends: 04/13/2015, Contact: Matt Dickinson, 530-543-2769.

EIS No. 20150048, Final EIS, USFS, CO, Middle Bald Mountain Area Communication Site, Review Period Ends: 04/06/2015, Contact: Carol Kruse, 970-295-6663.

EIS No. 20150049, Draft Supplement, NRCS, MS, Long Beach Watershed, Comment Period Ends: 04/20/2015, Contact: Kurt Readus, 601-965-5205.

EIS No. 20150050, Final EIS, USA, CA, The Modernization and Repair of Piers 2 and 3 at Military Ocean Terminal Concord, Review Period Ends: 04/06/2015, Contact: Sarah Garner, 618-220-6284.

EIS No. 20150051, Draft EIS, BLM, CA, West Mojave Planning Area, Draft Plan Amendment to the California Desert Conservation Area Plan, Comment Period Ends: 06/04/2015, Contact: Edythe Seehafer, 760-252-6021.

EIS No. 20150052, Final EIS, FTA, CA, Redlands Passenger Rail Project, Contact: Dominique Paukowits, 415-744-2735. Under MAP-21 Section 1319, FTA has issued a single FEIS and ROD. Therefore, the 30-day wait/review period under NEPA does not apply to this action.

EIS No. 20150053, Final Supplement, BOEM, Gulf of Mexico OCS Oil and Gas Lease Sales 246 and 248 in the Western Planning Area, Review Period Ends: 04/06/2015, Contact: Gary Goeke, 504-736-3233.

EIS No. 20150054, Draft EIS, NRC, FL, Turkey Point Nuclear Plant Units 6 and 7, Combined Licenses (COLs), Comment Period Ends: 05/22/2015, Contact: Alicia Williamson-Dickerson, 301-415-1878.

EIS No. 20150055, Draft EIS, USFS, OR, Goose Project, Comment Period Ends: 04/20/2015, Contact: Elysia Retzlaff, 541-822-7214.

EIS No. 20150056, Draft EIS, USFS, FL, Beasley Pond Analysis Area, Comment Period Ends: 04/20/2015, Contact: Branden Tolver, 850-926-3561.

Amended Notices

EIS No. 20150007, Draft EIS, BLM, CO, Bull Mountain Unit Master Development Plan, Comment Period Ends: 04/16/2015, Contact: Gina Jones, 970-240-5300.

Revision to the FR Notice Published 01/16/2015; Extending Comment Period from 03/02/2015 to 04/16/2015.

Dated: March 3, 2015.
Cliff Rader,
Director, NEPA Compliance Division, Office of Federal Activities.

[FR Doc. 2015-05322 Filed 3-5-15; 8:45 am]

BILLING CODE 6560-50P